DEPARTMENT OF THE INTERIOR

Fish and Wildlife Service

50 CFR Part 17

[FWS-R6-ES-2009-0035]

[MO9221050083-B2]

RIN 1018-AW24

Endangered and Threatened Wildlife and Plants; Taxonomic Change of Sclerocactus Glaucus to Three Separate Species

AGENCY: Fish and Wildlife Service, Interior.

ACTION: Final rule.

SUMMARY: We, the U.S. Fish and Wildlife Service (Service), announce the revised taxonomy of Sclerocactus glaucus (Uinta Basin hookless cactus) under the Endangered Species Act of 1973, as amended (Act). We determine that S. glaucus (previously considered a complex), which is currently listed as a threatened species, is actually three distinct species: S. brevispinus, S. glaucus, and S. wetlandicus. We are revising the List of Endangered and Threatened Plants to reflect the scientifically accepted taxonomy and nomenclature of these species. In addition, we revise the common names for these species as follows: S. brevispinus (Pariette cactus), S. glaucus (Colorado hookless cactus), and S. wetlandicus (Uinta Basin hookless cactus). These three species will continue to be listed as threatened with no regulatory changes.

DATES: This rule is effective on October 15, 2009.

ADDRESSES: Comments and materials received, as well as supporting documentation used in the preparation of this final rule, are available for public inspection, by appointment, during normal business hours, at the Utah Field Office, U.S. Fish and Wildlife Service, 2369 W. Orton Circle, Suite 50, West Valley City, UT 84119; telephone 801-975-3330. The final rule is also available on the Internet at http://www.regulations.gov and at http://www.fws.gov/mountain-prairie/species/plants/pariettecactus/.

FOR FURTHER INFORMATION CONTACT: Larry Crist, Field Supervisor, Utah Field Office (see ADDRESSES) (telephone 801-975-3330). People who use a telecommunications device for the deaf (TDD) may call the Federal Information Relay Service (FIRS) at 800-877-8339.

SUPPLEMENTARY INFORMATION:

Background

Section 17.12(b) of Title 50 of the Code of Federal Regulations (CFR) requires us to use the most recently accepted scientific name of any species determined by the Service to be an endangered or threatened species. This final rule documents a taxonomic change (scientific and common names) to an entry on the List of Endangered and Threatened Plants (50 CFR 17.12(h)). We find that Sclerocactus glaucus (Uinta Basin hookless cactus), as listed under section 4 of the Act (16 U.S.C. 1531 et seq.), is three separate species: S. brevispinus (Pariette cactus), S. glaucus (Colorado hookless cactus), and S. wetlandicus (Uinta Basin hookless cactus). Previously, these three species were scientifically classified under the single scientific name of S. glaucus (Benson 1966, pp. 50-57; 1982, pp. 728-729). We make this change to the List of Endangered and Threatened Plants (50 CFR 17.12(h)) to reflect the most recently accepted scientific names in accordance with 50 CFR 17.12(b).

These three species will now be listed as threatened under the Act until we conduct a five-factor analysis for each species. As soon as our staff and funding resources allow, we will publish a document in the Federal Register that provides the updated five-factor analysis and the prudency determination for critical habitat for each of the three species, and requests public comment on our analyses and prudency determinations.

Previous Federal Actions

On October 11, 1979, we published a final rule listing Sclerocactus glaucus (Uinta Basin hookless cactus) as threatened (44 FR 58868).

On February 3, 1997, we received a petition from the National Wilderness Institute to remove Sclerocactus glaucus from the List of Endangered and Threatened Plants. On April 25, 2005, we received a petition from the Center for Native Ecosystems and the Utah Native Plant Society requesting that we list S. brevispinus (Pariette cactus) as an endangered or threatened species under the Act (independent of its current listing as threatened as part of S. glaucus) and that we designate critical habitat.

On December 14, 2006, we published a 90-day finding on both petitions (71 FR 75215). First, we found that the petition to remove Sclerocactus glaucus from the List of Endangered and Threatened Plants did not provide substantial information to indicate that delisting may be warranted. Second, we found that the petition to list S. brevispinus (Pariette cactus) as an endangered or threatened species provided substantial information to indicate that independent listing of S. brevispinus as endangered or threatened may be warranted, and we initiated a status review. In addition, we found that emergency listing of S. brevispinus was not warranted, and that designation of critical habitat was not prudent. Further, we defined our understanding of the “Sclerocactus glaucus complex” as including the three Sclerocactus species: S. brevispinus, S. glaucus, and S. wetlandicus.

On September 18, 2007, we published a 12-month finding (72 FR 53211) on Sclerocactus brevispinus (Pariette cactus). We found that reclassifying S. brevispinus as a single species and listing that species as endangered was warranted, but precluded by higher priority actions to amend the Lists of Endangered and Threatened Wildlife and Plants. However, S. brevispinus remains listed as threatened as part of the S. glaucus (Uinta Basin hookless cactus) complex.

The September 18, 2007, publication (72 FR 53211) also announced our proposal to revise the taxonomy of Sclerocactus glaucus (Uinta Basin hookless cactus) to recognize three separate species. In accordance with the best available scientific information, we proposed to recognize three distinct species and assign the following common names: S. brevispinus (Pariette cactus), S. glaucus (Colorado hookless cactus), and S. wetlandicus (Uinta Basin hookless cactus). We also stated that S. glaucus and S. wetlandicus continued to meet the definition of “threatened” under the Act, and that listing S. brevispinus as endangered under the Act was warranted, but precluded by higher priority actions.

Comments on Proposed Taxonomic Classification

Peer Review

In accordance with our joint policy published in the Federal Register on July 1, 1994 (59 FR 34270), and based on our implementation of the Office of Management and Budget's Final Information Quality Bulletin for Peer Review, dated December 16, 2004, we sought the expert opinions of appropriate and independent specialists regarding the science in our proposed rule. The basis for the proposed taxonomic change has appeared in peer-reviewed journals (Succulenta, A Utah Flora, Flora of North America). In addition, we solicited the opinions of seven specialists in general plant taxonomy, and the taxonomy and ecology of the Sclerocactus glaucus in particular. We received peer reviews from three individuals, Dr. Bruce Glisson, Dr. Leila Shultz, and Professor Kenneth Heil. All agreed with our taxonomic analysis of the “Sclerocactus glaucus complex” and its component species.

Other Comments

We received three comments from the public on our proposal to designate Sclerocactus brevispinus, S. glaucus, and S. wetlandicus as separate species under the Act. All three comments indicated strong agreement with the proposed taxonomic changes and with listing S. brevispinus as endangered. All three comments also expressed concern about the “warranted but precluded” finding for S. brevispinus, because the commenters believed that listing the species as endangered should not be delayed.

Species Information

Taxonomic Classification

The original listing rule for Sclerocactus glaucus (44 FR 58868; October 11, 1979) included all hookless (straight central spines) Sclerocactus populations at the extreme periphery of the Sclerocactus distribution in western Colorado and northeastern Utah, and referred to them as S. glaucus per Benson (1966, pp. 50-57; 1982, pp. 728-729). This taxonomic classification is no longer supported by the results of genetic and morphological research. The separation of S. glaucus into three species (S. brevispinus, S. glaucus, and S. wetlandicus) is reinforced by recent genetic studies (Porter et al. 2000, pp. 14, 16; Porter et al. 2007, pp. 8, 9, 11, 15, 23), common garden experiments (to determine in a controlled environment whether plants exhibit different morphological characteristics when grown under different conditions) (Hochstätter 1993b, pp. 94, 98; Welsh et al. 2003, p. 79), and a reevaluation of morphological characteristics (Heil and Porter 2004, pp. 200-201; Hochstätter 1989, pp. 123-125; Hochstätter 1993a, pp. 85-92; Hochstätter 1993b, pp. 93, 97, 99; Porter et al. 2007, pp. 13, 15, 24-25).

Revisions to the taxonomy of Sclerocactus glaucus began in 1989 (Hochstätter 1989, pp. 123-125; Hochstätter 1993a , pp. 85-92; Hochstätter 1993b, pp. 91-92; Heil and Porter 1994, pp. 25-27; Porter et al. 2000, pp. 8-23; Welsh et al. 2003, p. 79). By 2004, the Flora of North America recognized the plant S. glaucus (that we listed in 1979; 44 FR 58868; October 11, 1979) as three distinct species: S. brevispinus (Pariette cactus), S. glaucus (Uinta Basin hookless cactus), and S. wetlandicus (no common name). The Flora of North America (Heil and Porter 2004, pp. 197-207) recognizes 15 species in the genus Sclerocactus, including S. brevispinus, S. glaucus, and S. wetlandicus.

Sclerocactus brevispinus (Pariette cactus) is a morphologically unique Sclerocactus population, occurring only in the Pariette Draw in the central Uinta Basin in Utah. This cactus is much smaller than either S. glaucus or S. wetlandicus and retains the vegetative characteristics of juvenile S. wetlandicus individuals in adult flowering plants. At the time of the species listing in 1979, these smaller individuals were thought to represent an ecotypic variation of S. glaucus. This unique cactus from Pariette Draw has been variously named S. wetlandicus var. ilseae (Hochstätter 1993b, pp. 95-97), S. brevispinus (Heil and Porter 1994, p. 26), and S. whipplei var. ilseae (Welsh et al. 2003, p. 79). We have adopted the taxonomic nomenclature accepted by the Flora of North America (Heil and Porter 2004, pp. 197-207) and adopt a new common name: S. brevispinus (Pariette cactus).

Sclerocactus glaucus (former common name was Uinta Basin hookless cactus; now Colorado hookless cactus) is endemic to western Colorado. Its former common name in the List of Endangered and Threatened Plants referred to a geographical area in Utah. Therefore, the common name was a misnomer that more accurately applies to S. wetlandicus (which formerly had no common name). Colorado hookless cactus is a more applicable common name for S. glaucus.

Sclerocactus wetlandicus (new common name is Uinta Basin hookless cactus) was first described in 1989 (Hochstätter 1993b, pp. 91-92), and comprises the bulk of the previously termed Uinta Basin hookless cactus complex in Utah (in the Uinta Basin proper). Its population is significantly disjunct from that of S. glaucus in Colorado. The common name “Uinta Basin hookless cactus” is appropriate for this species.

Species Descriptions

Cacti species of the Uinta Basin hookless cactus complex are a small ball- or barrel-shaped cactus, usually with straight (“hookless” as opposed to “fishhook” in most other species within the genus) central spines. Benson (1966, p. 53) describes Sclerocactus glaucus as a leafless, succulent plant in the cactus family; with solitary, ovoid to nearly globular stems that are 3.8 to 17.8 centimeters (cm) (1.5 to 7 inches (in)) tall and 2.5 to 11.4 cm (1 to 4.5 in) in diameter; with about 12 ribs with spine clusters born on tubercles (short protuberances) arising from the ribs.

These cacti have two types of spines (radial and central) and two types of central spines (abaxial and lateral). These spines are defined by size and position on the plant:

(1) The 4 to 12 radial spines radiate around the margin of the areole (a distinct non-photosynthetic surface area bearing spines), extend in a plane roughly parallel to the body of the plant, and are usually white, less than 2.5 cm (1 in) in length, and much finer and shorter than the dark central spines.

(2) The central spines number from 1 to 4 (sometimes absent), are 2.5 to 3.8 cm (1 to 1.5 in) long (generally longer than radial spines), and extend from the center of the areole. The central spines include abaxial and lateral forms:

• Abaxial spines are typically single and often longer than lateral spines.

• Lateral spines are often displayed in pairs on either side of the abaxial spine.

Flowers have numerous pinkish to lavender perianth parts (sepaloids [outer whorls, usually greenish] and petaloids [inner whorls, usually non-green]) and are 2.5 to 5.1 cm (1 to 2 in) in diameter and length. Flower stamens are numerous, with yellow anthers (the male pollen-bearing structures) and green filaments (structures that display the anthers). The fruit is barrel-shaped, 0.8 to 1.3 cm (0.3 to 0.5 in) long, and about 0.8 cm (0.3 in) in diameter. The seeds are small and black.

The revised species descriptions in Table 1 are based on those by Hochstätter (2005, pp. 14-18, 37-38) and Heil and Porter (2004, pp. 200-201) as used in the Flora of North America.

Table 1: Comparison of morphology for three Sclerocactus species.
Characteristic | Sclerocactus glaucus | Sclerocactus wetlandicus | Sclerocactus brevispinus
Plant Description | Leafless, stem-succulent plant with short cylindrical to ovoid body, usually 3 to12 cm (1.2 to 4.8 in) tall, but up to 30 cm (12 in) tall; 4 to 9 cm (1.6 to 3.6 in) diameter; with 8 to 15 (usually 12 or 13) tubercle-bearing ribs | Leafless, stem-succulent plant with short, cylindrical to elongate-cylindrical body, usually 3 to 15 cm (1.2 to 6.0 in) tall, but up to 25 cm (10 in)); 4 to 12 cm (1.6 to 4.8 in) diameter; with 12 to 15 tubercle-bearing ribs | Leafless, stem-succulent plant with a depressed-spherical to short-cylindrical body, usually 2.5 to 8.5 cm (1.0 to 3.4 in) tall, but most individuals less than 5 cm (2.0 in)); 1.8 to 7.5 cm (0.7 to 3.0 in) in diameter (most individuals less than 5 cm (2.0 in)); with (usually) 13 tubercle-bearing ribs
Spines | Spines occur in clusters within the areoles at tip of tubercles | Spines occur in clusters within the areoles at tip of tubercles | Spines occur in clusters within the areoles at tip of tubercles
Areoles | Pubescent in juvenile individuals | Not pubescent in juvenile individuals | Not pubescent in juvenile individuals
Radial Spines | 2 to 12 (usually 6 to 8) per cluster; white or gray to light brown; up to 17 millimeters (mm) (0.67 in) long; less than 1 mm (0.04 in) in diameter | 6 to 14 (usually 6 to 10) per cluster; white, or gray to light brown (rarely black), up to 6 to 20 mm (0.24 to 0.8 in) long; less than 0.6 mm (0.01 in) in diameter | 5 to 13 (usually 6 or 7) per cluster; white or gray-to-light brown, up to 5 to 15 mm (0.2 to 0.6 in) long; less than 1 mm (0.04 in) in diameter
Central Spines | Longer and heavier than radial spines; numbering one to five (usually three: one abaxial and two lateral), 12 to 50 mm (0.5 to 2.0 in) long, and 0.8 to 1.8 mm (0.03 to 0.07 in) thick | Usually longer and heavier than radial spines, numbering one to five (usually three: one abaxial and two lateral), are 15 to 30 mm (0.5 to 2.0 in) long, and 0.5 to 1.8 mm (0.02 to 0.07 in) thick | Usually longer and heavier than radial spines, numbering 0 to 3 (usually 1: the abaxial, rarely with two laterals), 2 to 5 mm (0.08 to 0.2 in) long, and 0.5 to 1.8 mm (0.02 to 0.07 in) thick
Abaxial Spines | Usually solitary (sometimes lacking) and ascending toward the apex of the plant body with its tip noticeably bent at an angle usually less than 90 degrees | Usually solitary (sometimes lacking or double), and ascending toward the apex of the plant body with its tip usually noticeably bent at an angle usually less than 90 degrees (sometimes straight, or rarely hooked up to 180 degrees) | Solitary (sometimes lacking) and usually descending away from the apex of the plant body with entire spine bent or in short spines (1 to 3 mm (0.04 to 0.12 in) long), strongly hooked with the tip almost touching the surface of the areole
Lateral Spines | Usually displayed in pairs on either side of the abaxial spine; they are of approximately the same length and thickness but are relatively straight without obvious bent tip of the abaxial spine; these diverge from abaxial spine at an acute angle, usually between 20 and 50 degrees | Usually displayed in pairs on either side of the abaxial spine and are of approximately same length and thickness but are more or less straight without obvious bent tip of abaxial spine; these diverge from the abaxial spine at acute angle, usually between 20 and 50 degrees | Usually absent; when present, are on either side of abaxial spine and are of approximately same length and thickness, more or less straight without the obvious bend or hook of abaxial spine, and diverge from abaxial spine at acute angle (usually between 20 and 50 degrees)
Flowers | Fragrant and funnelform (funnel-shaped) or rarely campanulate (bell-shaped), 3 to 6 cm (1.2 to 2.4 in) long, and 3 to 5 cm (1.2 to 2.0 in) in diameter | Fragrant and funnelform, 2 to 5 cm (0.8 to 2 in) long and 2 to 5 cm (0.8 to 2 in) in diameter | Campanulate 1.0 to 1.5 cm (0.4 to 0.6 in) (occasionally up to 3 cm (1.2 in)) high, and 1.2 to 3 cm (0.4 to 1.2 in) in diameter
Tepals (the colored corolla parts of the cactus flower) | Consist of two whorls. Outer: 20 to 30 tepals; have broad, greenish-lavender midstripe with pink margins, and are oblanceolate; tepals transition from small, leaf-like scales low on the floral tube to petal-like structures near rim of floral tube; are 4 to 30 mm (0.16 to 1.2 in) long and 4 to 6 mm (0.16 to 0.24 in) wide. Inner: 12 to 20 tepals, pale pink to dark pink, oblanceolate to lanceolate, and 25 to 35 mm (1 to 1.4 in) long and 4 to 6 mm (0.16 to 0.24 in) wide; borne at rim of floral tube | Consist of two whorls. Outer: 20 to 30 tepals; have broad, brownish-lavender midstripe with pink to violet margins; oblanceolate, transition from small leaf-like scales low on the floral tube to petal-like structures near the rim of the floral tube, and are 4 to 30 mm (0.16 to 1.2 in) long and 4 to 6 mm (0.16 to 0.24 in) wide. Inner: 12 to 20 tepals; pink to violet, oblanceolate to lanceolate, are 17 to 30 mm (0.67 to 1.2 in) long, and 3 to 6 mm (0.12 to 0.24 in) wide; borne at rim of floral tube | Consist of two whorls. Outer: 20 to 30 tepals; greenish to purple with a brownish midstripe and pink or purple margins; oblanceolate and transition from small, leaf-like scales low on the floral tube to petal-like structures near the rim of the floral tube; 4 to 16 mm (0.16 to 0.63 in) long and 2 to 6 mm (0.08 to 0.24 in) wide. Inner: 12 to 20 tepals; pink to purple, oblanceolate to lanceolate, 10 to 22 mm (0.40 to 0.87 in) long and 3 to 7 mm (0.12 to 0.28 in) wide; borne at rim of floral tube
Stamens | Numerous, have yellow anthers a:ttached by filaments (from green to white) to the interior surface of the floral tube | Numerous, with yellow anthers attached by green-to-white filaments to the interior surface of the floral tube | Numerous, with yellow anthers attached by green-to-white filaments to the interior surface of the floral tube
Floral Tube | Arises from upper margin of the seed-producing ovary | Arises from upper margin of the seed-producing ovary | Arises from the upper margin of the seed-producing ovary
Ovary | Bears one style (from pink to yellow) with stigma of about 12 lobes. After pollination, ovary ripens into dry fruit in approximately 4 to 6 weeks, with 15 to 30 seeds turning from green to brown | Bears one style (from pink to yellow) with stigma of about 12 lobes. After pollination, ovary ripens into dry fruit in about 4 to 6 weeks, with 15 to 30 seeds turning from green to brown | Bears one style (from pink to yellow) with stigma of about 12 lobes. After pollination, ovary ripens into dry fruit in about 4 to 6 weeks, with 15 to 30 seeds turning from green to brown
Fruit | Ovoid, barrel-shaped, 9 to 30 mm (0.35 to 1.2 in) long (usually less than 22 mm (0.87 in) long), and 8 to 12 mm (0.31 to 0.47 in) wide | Ovoid, barrel-shaped, 9 to 30 mm (0.35 to 1.2 in) long (usually less than 25 mm (1 in) long), and 7 to 12 mm (0.28 to 0.47 in) wide | Ovoid, barrel-shaped, 9 to 30 mm (0.35 to 1.2 in) long (usually less than 25 mm (1 in) long), and 7 to 12 mm (0.28 to 0.47 in) wide
Seeds | Black, asymmetrically elongated, with hilum (seed scar at point of attachment to ovary wall) near side of smaller seed lobe; 1.5 mm (0.06 in) wide and 2.5 mm (0.1 in) long; testa (seed coat) covered by rounded papillae | Black, asymmetrically elongated, with hilum near side of smaller seed lobe; 1.5 mm (0.06 in) wide and 2.5 mm (0.1 in) long; testa composed of hexagonal papillae with flattened tops | Black, asymmetrically elongated, with hilum near the side of the smaller seed lobe; 1.5 mm (0.06 in) wide and 2.5 mm (0.1 in) long; testa composed of hexagonal papillae with flattened tops
Main Differences | Seed characteristics with areole pubescence of juvenile individuals are the most consistent morphological characteristics separating S. glaucus from S. wetlandicus and S. brevispinus | Testa characteristics are the most consistent morphological characteristics separating S. wetlandicus and S. brevispinus from S. glaucus | Diminutive nature of central spines and overall plant size are the most consistent morphological characteristics separating S. brevispinus from S. wetlandicus and S. glaucus. Testa characteristics are the most consistent morphological characteristics separating S. wetlandicus and S. brevispinus from S. glaucus

Required Determinations

Paperwork Reduction Act of 1995 (44 U.S.C. 3501 et seq.)

This rule does not contain any new collections of information that require approval by OMB under the Paperwork Reduction Act. This rule will not impose recordkeeping or reporting requirements on State or local governments, individuals, businesses, or organizations. An agency may not conduct or sponsor, and a person is not required to respond to, a collection of information unless it displays a currently valid OMB control number.

National Environmental Policy Act

We have determined that we do not need to prepare an Environmental Assessment or an Environmental Impact Statement as defined under the authority of the National Environmental Policy Act of 1969, in connection with regulations adopted pursuant to section 4(a) of the Act. We published a notice outlining our reasons for this determination in the Federal Register on October 25, 1983 (48 FR 49244).

References Cited

A complete list of all references cited is available upon request from the Supervisor at the U.S. Fish and Wildlife Service, Utah Field Office (see ADDRESSES).

Authors

The authors of this document are the staff members of the Utah Field Office (see ADDRESSES).

List of Subjects in 50 CFR Part 17

Endangered and threatened species, Exports, Imports, Reporting and recordkeeping requirements, Transportation.

Regulation Promulgation

Accordingly, we amend part 17, subchapter B of chapter I, title 50 of the Code of Federal Regulations, as set forth below:

PART 17—[AMENDED]

1. The authority citation for part 17 continues to read as follows:

Authority: 16 U.S.C. 1361-1407; 16 U.S.C. 1531-1544; 16 U.S.C. 4201-4245; Pub. L. 99-625, 100 Stat. 3500; unless otherwise noted.

2. Amend § 17.12(h) by revising the entry for Sclerocactus glaucus, and by adding entries for Sclerocactus brevispinus and Sclerocactus wetlandicus, in alphabetical order under FLOWERING PLANTS, to the List of Endangered and Threatened Plants, to read as follows:

§ 17.12 Endangered and threatened plants.

* * * * *

(h) * * *

Species: Scientific name | Species: Common name | Historic range | Family | Status | When listed | Critical habitat | Special rules
FLOWERING PLANTS
* * * * * *
Sclerocactus brevispinus | Pariette cactus | U.S.A. (UT) | Cactaceae | T | 59 | NA | NA
Sclerocactus glaucus | Colorado hookless cactus | U.S.A. (CO) | Cactaceae | T | 59 | NA | NA
* * * * * *
Sclerocactus wetlandicus | Uinta Basin hookless cactus | U.S.A. (UT) | Cactaceae | T | 59 | NA | NA
* * * * * *

Dated: August 24, 2009.
Will Shafroth,
Acting Director, U.S. Fish and Wildlife Service.

[FR Doc. E9-22125 Filed 9-14-09; 8:45 am]

BILLING CODE 4310-55-S